DEPARTMENT OF THE TREASURY

Agency Information Collection Activities; Submission for OMB Review; Comment Request; Multiple FinCEN Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 31, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Financial Crimes Enforcement Network (FinCEN)

1. Title: Report of International Transportation of Currency or Monetary Instruments.

OMB Control Number: 1506-0014.

Type of Review: Extension without change of a currently approved collection.

Description: FinCEN, and the Department of Homeland Security (DHS) and the DHS Bureaus, are required under 31 U.S.C. 5316(a) to collect information regarding mailing, shipment, or transportation of currency or monetary instruments of more than $10,000 in value into or out of the United States.

Form: FinCEN 105.

Affected Public: Businesses or other for-profits.

Estimated Number of Respondents: 280,000.

Frequency of Response: On occasion.

Estimated Total Number of Annual Responses: 280,000.

Estimated Time per Response: 30 minutes.

Estimated Total Annual Burden Hours: 140,000.

2. Title: Customer Identification Programs for Banks, Savings Associations, Credit Unions, and Certain Non-federally Regulated Banks.

OMB Control Number: 1506-0026.

Type of Review: Extension without change of a currently approved collection.

Description: Section 326 of the USA PATRIOT Act added a new subsection (l) to 31 U.S.C. 5318 of the Bank Secrecy Act. Pursuant to section 326, FinCEN issued joint regulations with the federal bank regulatory agencies that require banks, savings associations, credit unions, and certain non-federally regulated banks to establish a written customer identification program and to maintain records related to verifying the identity of customers. See 31 CFR 1020.220. Under the customer identification program regulations, the minimum requirements include: (1) Implementation of a written customer identification program appropriate for the financial institution's size and type of business; (2) identity verification procedures; (3) recordkeeping; (4) comparison with government lists; and (5) customer notice.

Form: None.

Affected Public: Businesses or other for-profits.

Estimated Number of Respondents: 15,960.

Frequency of Response: On Occasion.

Estimated Total Number of Annual Responses: 15,960.

Estimated Time per Response: 11 hours.

Estimated Total Annual Burden Hours: 175,560.

3. Title: Anti-Money Laundering Programs for Dealers in Precious Metals, Precious Stones, or Jewels.

OMB Control Number: 1506-0030.

Type of Review: Extension without change of a currently approved collection.

Description: Section 352 of the USA PATRIOT Act added a new subsection (h) to 31 U.S.C. 5318 of the Bank Secrecy Act that requires the Secretary of the Treasury to require financial institutions to establish and maintain anti-money laundering (“AML”) programs. Pursuant to section 352, FinCEN issued regulations requiring dealers in precious metals, precious stones, or jewels (31 CFR 1027.210) to develop and implement a written anti-money laundering program. The program must be reasonably designed to prevent these financial institutions from being used for money laundering or the financing of terrorist activities, and to achieve and monitor compliance with applicable BSA requirements.

Form: None.

Affected Public: Businesses or other for-profits.

Estimated Number of Respondents: 20,000.

Frequency of Response: Annually.

Estimated Total Number of Annual Responses: 20,000.

Estimated Time per Response: 1 hour.

Estimated Total Annual Burden Hours: 20,000.

4. Title: Customer Identification Programs for Mutual Funds.

OMB Control Number: 1506-0033.

Type of Review: Extension without change of a currently approved collection.

Description: Section 326 of the USA PATRIOT Act added a new subsection (l) to 31 U.S.C. 5318 of the Bank Secrecy Act. Pursuant to section 326, FinCEN issued joint regulations with the Securities and Exchange Commission (“SEC”) that require mutual funds to establish a written customer identification program and to maintain records related to verifying the identity of customers. See 31 CFR 1024.220. Under the customer identification program regulations, the minimum requirements include: (1) Implementation of a written customer identification program appropriate for the financial institution's size and type of business; (2) identity verification procedures; (3) recordkeeping; (4) comparison with government lists; and (5) customer notice.

Form: None.

Affected Public: Businesses or other for-profits.

Estimated Number of Respondents: 1,591.

Frequency of Response: On Occasion.

Estimated Total Number of Annual Responses: 20,000,000.

Estimated Time per Response: 2 minutes.

Estimated Total Annual Burden Hours: 666,667.

5. Title: Customer Information Programs for Broker or Dealers in Securities.

OMB Control Number: 1506-0034.

Type of Review: Extension without change of a currently approved collection.

Description: Section 326 of the USA PATRIOT Act added a new subsection (l) to 31 U.S.C. 5318 of the Bank Secrecy Act. Pursuant to section 326, FinCEN issued joint regulations with the Securities and Exchange Commission (“SEC”) that require broker or dealers in securities to establish a written customer identification program and to maintain records related to verifying the identity of customers. See 31 CFR 1023.220. Under the customer identification program regulations, the minimum requirements include: (1) Implementation of a written customer identification program appropriate for the financial institution's size and type of business; (2) identity verification procedures; (3) recordkeeping; (4) comparison with government lists; and (5) customer notice.

Form: None.

Affected Public: Businesses or other for-profits.

Estimated Number of Respondents: 3,839.

Frequency of Response: On Occasion.

Estimated Total Number of Annual Responses: 9,000,000.

Estimated Time per Response: 2 minutes.

Estimated Total Annual Burden Hours: 300,000.

Authority: 44 U.S.C. 3501 et seq.

Dated: November 25, 2018.
Spencer W. Clark,
Treasury PRA Clearance Officer.

[FR Doc. 2018-25947 Filed 11-28-18; 8:45 am]

BILLING CODE 4810-02-P